DEPARTMENT OF DEFENSE

Office of the Secretary

Board of Visitors, National Defense University; Notice of Federal Advisory Committee Meeting

AGENCY: Office of the Chairman Joint Chiefs of Staff, Department of Defense.

ACTION: Notice of Federal Advisory Committee meeting.

SUMMARY: The Department of Defense (DoD) is publishing this notice to announce that the following Federal Advisory Committee meeting of the Board of Visitors, National Defense University will take place.

DATES: Thursday, December 6, 2018 from 12:30 p.m. to 5:15 p.m. and Friday, December 7, 2018 from 10:30 a.m. to 12:15 p.m.

ADDRESSES: Marshall Hall, Building 62, Room 155A/B (Thursday), Lincoln Hall, Building 64, Room 1107 (Friday), the National Defense University, 300 5th Avenue SW, Fort McNair, Washington, DC 20319-5066.

FOR FURTHER INFORMATION CONTACT: Dr. Brian R. Shaw, (202) 685-4685 (Voice), (202) 685-3920 (Facsimile), brian.r.shaw8.civ@mail.mil; brian.r.shaw.civ@ndu.edu; joycelyn.a.stevens.civ@mail.mil; stevensj7@ndu.edu (Email). Mailing address is National Defense University, Fort McNair, Washington, DC 20319-5066. Website: http://www.ndu.edu/About/Board-of-Visitors/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. Pursuant to 5 U.S.C. 552b and 41 CFR 102-3.140 through 102-3.165, and the availability of space, this meeting is open to the public.

Purpose of the Meeting: The purpose of the meeting will include discussion on accreditation compliance, organizational management, strategic planning, resource management, and other matters of interest to the National Defense University.

Agenda: Thursday, December 6, 2018 from 12:30 p.m. to 5:15 p.m.: Welcome and Administrative Notes; State of the University Address; Globally Integrated Operations; NDU Strategic Plan; State of the NDU Budget; Information Technology Update; Faculty and Staff Command Climate Survey Results and Analysis. Friday, December 7, 2018 from 10:30 a.m. to 12:15 p.m.: Condition of NDU Facilities; Public Comment, Board of Visitor Member Feedback; Wrap-up and Closing Remarks.

Meeting Accessibility: Limited space made available for observers will be allocated on a first come, first served basis. Meeting location is handicap accessible. The Main Gate/Visitor's Gate on 2nd Street SW is open 24/7. All non-DoD/non-federally affiliated visitors MUST use this gate to access Fort McNair.

ID Requirements: A federal or state government-issued photo ID with biographic information such as name, date of birth, gender, and address is required. Security badges are not acceptable. All credentials are subject to screening and vetting by Installation Access Control personnel.

Vehicle Search: Non-DoD/non-federally affiliated visitors' vehicles are subject to search.

Written Statements: Pursuant to 41 CFR 102-3.105(j) and 102-3.140, and section 10(a)(3) of the Federal Advisory Committee Act of 1972, written statements to the committee may be submitted to the committee at any time or in response to a stated planned meeting agenda by FAX or email to Ms. Joycelyn Stevens at (202) 685-0079, Fax (202) 685-3920 or StevensJ7@ndu.edu.

Dated: November 16, 2018.
Aaron T. Siegel,
Alternate OSD Federal Register Liaison Officer, Department of Defense.

[FR Doc. 2018-25432 Filed 11-20-18; 8:45 am]

BILLING CODE 5001-06-P